DEPARTMENT OF COMMERCE

Foreign-Trade Zones Board

[Docket 57-2004]

Foreign-Trade Zone 222—Montgomery, AL; Application for Expansion

An application has been submitted to the Foreign-Trade Zones (FTZ) Board (the Board) by the Montgomery Area Chamber of Commerce, grantee of FTZ 222, requesting authority to expand its zone in Montgomery County, Alabama, adjacent to the Birmingham Customs port of entry. The application was submitted pursuant to the provisions of the Foreign-Trade Zones Act, as amended (19 U.S.C. 81a-81u), and the regulations of the Board (15 CFR part 400). It was formally filed on December 8, 2004.

FTZ 222 was approved on May 30, 1997 (Board Order 888, 62 FR 32290, 6/13/97). The general-purpose zone project currently consists of 2 sites (5,725 acres) in the Montgomery County area: Site 1 (5,170 acres)—Dannelly Field Airport Industrial Complex located on Interstate 65 on the south side of Montgomery (1,968 acres), the adjacent Interstate Enterprise Zone (3,024 acres), and the adjoining Catoma Industrial Park (178 acres); and, Site 2 (555 acres)—Gunter Industrial Park located adjacent to Montgomery's Northern Bypass.

The applicant is now requesting authority to expand the general purpose zone to include two additional sites (1,412 acres) in Montgomery County: Proposed Site 3 (1,044 acres)—Airport Industrial Commercial Park located on U.S. Highway 80; and, Proposed Site 4 (368 acres)—Montgomery County Technology Park located on Interstate 85 east and north of existing Site 1. Proposed Site 3 is currently being utilized by a variety of tenants for light manufacturing activities and has additional lots available for build-to-suit applications. Proposed Site 4 is currently under development and will be zoned for manufacturing and warehousing activities. Proposed Site 3 is primarily owned by Elias Industries, Inc., and Proposed Site 4 is owned by the Montgomery County Commission. No specific manufacturing requests are being made at this time. Such requests would be made to the board on a case-by-case basis. The sites will provide public warehousing and distribution services to area businesses.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is February 14, 2005. Rebuttal comments in response to material submitted during the foregoing period may be submitted during the subsequent 15-day period (to February 28, 2005).

A copy of the application and accompanying exhibits will be available during this time for public inspection at the address Number 1 listed above, and at the Montgomery Area Chamber of Commerce, 41 Commerce Street, Montgomery, AL 36104.

Dated: December 8, 2004.
Dennis Puccinelli,
Executive Secretary.

[FR Doc. 04-27379 Filed 12-13-04; 8:45 am]

BILLING CODE 3510-DS-P